DEPARTMENT OF TRANSPORTATION

Federal Railroad Administration

[Docket Number FRA-2017-0035]

Petition for Waiver of Compliance

Under part 211 of Title 49 Code of Federal Regulations (CFR), this document provides the public notice that on April 26, 2016, Grenada Railroad, LLC (GRYR), the operator of trackage owned by North Central Mississippi Regional Railroad Authority (NCMRRA) requested that the Federal Railroad Administration (FRA) grant temporary relief from the requirements of 49 CFR 234.247, Purpose of inspections and tests; removal from service of relay or device failing to meet test requirements, to allow GRYR to operate over non-functioning highway-rail grade crossings (HRGC) without making the inspections and tests required in 49 CFR 234.249 through 234.271. FRA assigned the petition Docket Number FRA-2017-0035.

The reason for relief from the requirements is that prior to the purchase of the railroad by NCMRRA, the previous owner removed major components from the HRGC warning systems, bungalows, signals, and gates. As part of GRYR's commitment to provide rail services to those that require it, GRYR must access areas of the railroad previously deemed out of service. GRYR proposes to operate over affected HRGCs by the following alternative method:

• Making all movements over HRGC in daylight hours.

• Working with local authorities to obtain permission to close the roadway at a HRGC requiring occupation by a train.

• Stationing an employee at each crossing to provide warning to approaching highway traffic and communicate with motorists as needed.

GRYR requests to use the proposed method of alternative protection on the GRYR Subdivision, between milepost (MP) 629 near Duck Hill, MS, and MP 686 south of Durant, MS, for a period not to extend beyond December 31, 2017. During this time period, GRYR plans to acquire and install the equipment necessary to bring the HRGC warning systems into compliance.

A copy of the petition, as well as any written communications concerning the petition, is available for review online at www.regulations.gov and in person at the Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 10, 2017 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Safety, Chief Safety Officer.

[FR Doc. 2017-10644 Filed 5-23-17; 8:45 am]

BILLING CODE 4910-06-P